DEPARTMENT OF THE INTERIOR

Office of Surface Mining Reclamation and Enforcement

30 CFR Parts 701 and 774

RIN 1029-AC49

Transfer, Assignment, or Sale of Permit Rights

AGENCY: Office of Surface Mining Reclamation and Enforcement, Interior.

ACTION: Proposed rule; extension of comment period.

SUMMARY: In response to a request, we are extending the comment period for the proposed rule published in the Federal Register on January 26, 2005, concerning the transfer, assignment, or sale of permit rights under the provisions of the Surface Mining Control and Reclamation Act of 1977.

DATES: Written comments: We will accept written comments on the proposed rule until 4:30 p.m. eastern time, on April 15, 2005.

ADDRESSES: You may submit comments, identified by docket number 1029-AC49, by any of the following methods:

• E-mail: osmregs@osmre.gov. Include docket number 1029-AC49 in the subject line of the message.

• Mail/Hand Delivery/Courier: Office of Surface Mining Reclamation and Enforcement, Administrative Record, Room 252, 1951 Constitution Avenue, NW., Washington, DC 20240.

• Federal eRulemaking Portal: http://www.regulations.gov. Following the instructions for submitting comments.

• Docket: You may review the docket (administrative record) for this rulemaking including comments received in response to this proposed rule at the Office of Surface Mining Reclamation and Enforcement, Administrative Record, located in Room 101, 1951 Constitution Avenue, NW., Washington, DC 20240. The Administrative Record office is opened Monday through Friday, excluding holidays from 8 a.m. to 4 p.m. The telephone number is 202-208-2847.

If you wish to comment on the information collection aspects of this proposed rule, submit your comments to the Office of Management and Budget, Office of Information and Regulatory Affairs, Attention: Interior Desk Officer, via electronic mail, to OIRA_DOCKET@omb.eop.gov or via telefacsimile at 202-395-6566.

FOR FURTHER INFORMATION CONTACT: Earl D. Bandy, Jr., Office of Surface Mining Reclamation and Enforcement, Appalachian Region, Applicant/Violator System Office, 2679 Regency Road, Lexington, Kentucky 40503. Telephone: 859-260-8424 or 800-643-9748. E-mail: ebandy@osmre.gov.

SUPPLEMENTARY INFORMATION: On January 26, 2005 (70 FR 3840), we published a proposed rule that would revise our regulations for, and related to, the transfer, assignment, or sale of permit rights. The proposed rule effectuates a settlement agreement we entered into with the National Mining Association (NMA) in connection with NMA's judicial challenge to certain provisions of our December 19, 2000, final ownership and control rule (2000 ownership and control rule or 2000 rule). In the proposed rule, we propose to: (1) Revise the regulatory definitions of transfer, assignment, or sale of permit rights and successor in interest; (2) revise the regulatory provisions relating to transfer, assignment, or sale of permit rights; and (3) create separate rules for successors in interest. The primary purpose of the proposed rule is to distinguish clearly the circumstances that will constitute a transfer, assignment, or sale of permit rights (requiring a regulatory authority's approval and, at a minimum, a permit revision) or result in a successor in interest (requiring the issuance of a new permit) from those that will only require a permittee to provide information updates. The proposed rule also affords us an opportunity to ensure our rules are consistent with recent legal developments. The proposed rule does not suspend or withdraw any of the provisions of our 2000 ownership and control rule, nor does it affect any of our proposed revisions to the 2000 rule published on December 29, 2003. This proposed rule is authorized under the Surface Mining Control and Reclamation Act of 1977, as amended. For a full explanation of the proposed rule, please refer to the rule text and preamble.

The comment period on the proposed rule was originally scheduled to close on March 29, 2005. In response to a telephone request for an extension, we are extending the comment period until April 15, 2005. Written or electronic comments may be submitted in accordance with the instructions provided in DATES and ADDRESSES above and in Part III of the preamble to the January 26, 2005, proposed rule.

Dated: April 1, 2005.
Jeffrey D. Jarrett,
Director, Office of Surface Mining Reclamation and Enforcement.

[FR Doc. 05-6858 Filed 4-6-05; 8:45 am]

BILLING CODE 4310-05-M